DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 7, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Windham County, Connecticut
(All Jurisdictions)
Docket No.: FEMA-B-2180
Borough of Danielson | Killingly Town Hall, 172 Main Street, 1st Floor, Killingly, CT 06239.
Town of Brooklyn | Town Hall, 4 Wolf Den Road, Brooklyn, CT 06234.
Town of Killingly | Town Hall, 172 Main Street, 1st Floor, Killingly, CT 06239.
Town of Plainfield | Town Hall, 8 Community Avenue, Plainfield, CT 06374.
Town of Pomfret | Town of Pomfret Emergency Management Department, 5 Haven Road, Pomfret Center, CT 06259.
Town of Putnam | Town Hall, 200 School Street, Putnam, CT 06260.
Town of Sterling | Town of Sterling Land Use Department, 1183 Plainfield Pike, Oneco, CT 06373.
Town of Thompson | Thompson Town Clerk's Office, 815 Riverside Drive, North Grosvenordale, CT 06255.
Terrebonne Parish, Louisiana
(All Jurisdictions)
Docket No.: FEMA-B-1040 and
FEMA-B-2242
Terrebonne Parish Consolidated Government | Terrebonne Parish, Park Avenue Professional Building, 7836 Park Avenue, Houma, LA 70360.
Lincoln County, Minnesota and Incorporated Areas
Docket No.: FEMA-B-2235
City of Arco | Community Center, 106 East Laurel Street, Arco, MN 56113.
City of Hendricks | City Hall, 207 South Division Street, Hendricks, MN 56136.
City of Ivanhoe | City Hall, 401 North Harold Street, Ivanhoe, MN 56142.
City of Lake Benton | City Hall, 106 South Center Street, Lake Benton, MN 56149.
City of Tyler | City Hall, 230 North Tyler Street, Tyler, MN 56178.
Unincorporated Areas of Lincoln County | Lincoln County Courthouse, 319 North Rebecca Street, Ivanhoe, MN 56142.
Lincoln County, Oklahoma and Incorporated Areas
Docket No.: FEMA-B-2207
City of Stroud | City Hall, 220 West 2nd Street, Stroud, OK 74079.
Unincorporated Areas of Lincoln County | Lincoln County Courthouse, 811 Manvel Avenue, Suite 4, Chandler, OK 74834.
Cumberland County, Pennsylvania
(All Jurisdictions)
Docket No.: FEMA-B-2124
Borough of Camp Hill | Borough Administration Office, 2145 Walnut Street, Camp Hill, PA 17011.
Borough of Carlisle | Municipal Building, 53 West South Street, Carlisle, PA 17013.
Borough of Lemoyne | Borough Office, 510 Herman Avenue, Lemoyne, PA 17043.
Borough of Mechanicsburg | Borough Office, 36 West Allen Street, Mechanicsburg, PA 17055.
Borough of Mount Holly Springs | Municipal Building, 200 Harman Street, Mount Holly Springs, PA 17065.
Borough of New Cumberland | Borough Office, 1120 Market Street, New Cumberland, PA 17070.
Borough of Newburg | Borough Office, 105 West Main Street, Newburg, PA 17240.
Borough of Newville | Borough Office, 4 West Street, Newville PA 17241.
Borough of Shippensburg | Borough Office, 111 North Fayette Street, Shippensburg, PA 17257.
Borough of Shiremanstown | Borough Office, 1 Park Lane, Shiremanstown, PA 17011.
Borough of Wormleysburg | Borough Hall, 20 Market Street, Wormleysburg, PA 17043.
Township of Cooke | Cooke Township Office, 1700 Centerville Road, Newville, PA 17241.
Township of Dickinson | Dickinson Township Building, 219 Mountain View Road, Mount Holly Springs, PA 17065.
Township of East Pennsboro | East Pennsboro Township Community and Municipal Center, 98 South Enola Drive, Enola, PA 17025.
Township of Hampden | Hampden Township Municipal Building, 209 South Sporting Hill Road, Mechanicsburg, PA 17050.
Township of Hopewell | Hopewell Township Administration Building, 415 Three Square Hollow Road, Newburg, PA 17240.
Township of Lower Allen | Lower Allen Township Municipal Services Center, 2233 Gettysburg Road, Camp Hill, PA 17011.
Township of Lower Frankford | Lower Frankford Township Municipal Building, 1205 Easy Road, Carlisle, PA 17015.
Township of Lower Mifflin | Lower Mifflin Township Office, 529 Shed Road, Newville, PA 17241.
Township of Middlesex | Middlesex Township Building, 350 North Middlesex Road, Carlisle, PA 17013.
Township of Monroe | Monroe Township Municipal Complex, 1220 Boiling Springs Road, Mechanicsburg, PA 17055.
Township of North Middleton | North Middleton Township Municipal Building, 2051 Spring Road, Carlisle, PA 17013.
Township of North Newton | North Newton Township Administrative Office, 528 Oakville Road, Shippensburg, PA 17257.
Township of Penn | Penn Township Municipal Building, 1301 Centerville Road, Newville, PA 17241.
Township of Shippensburg | Municipal Office, 81 Walnut Bottom Road, Shippensburg, PA 17257.
Township of Silver Spring | Silver Spring Township Building, 8 Flowers Drive, Mechanicsburg, PA 17050.
Township of South Middleton | South Middleton Township Municipal Building, 520 Park Drive, Boiling Springs, PA 17007.
Township of South Newton | South Newton Township Municipal Building, 11 High Mountain Road, Walnut Bottom, PA 17266.
Township of Southampton | Southampton Township Municipal Building, 200 Airport Road, Shippensburg, PA 17257.
Township of Upper Allen | Upper Allen Township Building, 100 Gettysburg Pike, Mechanicsburg, PA 17055.
Township of Upper Frankford | Upper Frankford Township Building, 660 Mohawk Road, Newville, PA 17241.
Township of Upper Mifflin | Upper Mifflin Township Municipal Building, 455 Whiskey Run Road, Newville, PA 17241.
Township of West Pennsboro | West Pennsboro Township Municipal Building, 2150 Newville Road, Carlisle, PA 17015.

[FR Doc. 2023-07679 Filed 4-11-23; 8:45 am]

BILLING CODE 9110-12-P